DEPARTMENT OF HOMELAND SECURITY

Federal Emergency Management Agency

44 CFR Part 65

[Docket No. FEMA-D-7557]

Changes in Flood Elevation Determinations

AGENCY: Federal Emergency Management Agency (FEMA), Emergency Preparedness and Response Directorate, Department of Homeland Security.

ACTION: Interim rule.

SUMMARY: This interim rule lists communities where modification of the Base (1% annual chance) Flood Elevations (BFEs) is appropriate because of new scientific or technical data. New flood insurance premium rates will be calculated from the modified BFEs for new buildings and their contents.

DATES: These modified BFEs are currently in effect on the dates listed in the table and revise the Flood Insurance Rate Map(s) (FIRMs) in effect prior to this determination for each listed community.

From the date of the second publication of these changes in a newspaper of local circulation, any person has ninety (90) days in which to request through the community that the Director reconsider the changes. The modified elevations may be changed during the 90-day period.

ADDRESSES: The modified BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: The modified BFEs are not listed for each community in this interim rule. However, the address of the Chief Executive Officer of the community where the modified BFE determinations are available for inspection is provided.

Any request for reconsideration must be based upon knowledge of changed conditions, or upon new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

The changes in BFEs are in accordance with 44 CFR 65.4.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, floodplains, reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as shown below:

State and county | Location | Dates and name of newspaper where notice was published | Chief executive officer of community | Effective date of modification | Community No.
Alabama:
Houston | City of Dothan | Mar. 4, 2004, Mar. 11, 2004, The Dothan Eagle | The Honorable Chester L. Sowell, III, Mayor of the City of Dothan, P.O. Box 2128, Dothan, Alabama 36302 | June 10, 2004 | 010104 E
Colbert | City of Muscle Shoals. | Mar. 24, 2004, Mar. 31, 2004, Times Daily | The Honorable David H. Bradford, Mayor of the City of Muscle Shoals, P.O. Box 2624, Muscle Shoals, Alabama 35662 | Apr. 17, 2004 | 010047 C
Tuscaloosa | City of Tuscaloosa | Mar. 24, 2004, Mar. 31, 2004, The Tuscaloosa News | The Honorable Alvin P. Dupont, Mayor of the City of Tuscaloosa, P.O. Box 2089, Tuscaloosa, Alabama 35403 | June 30, 2004 | 010203 E
Delaware: New Castle | Unincorporated Areas | Apr. 2, 2004, April 9, 2004, The News Journal | Mr. Thomas P. Gordon, New Castle County Executive, New Castle County Government Center, 87 Reads Way, New Castle, Delaware 19720 | July 9, 2004 | 105085 G
Florida:
Charlotte A | Unincorporated Areas | Apr. 7, 2004, April 14, 2004, Sun Herald | Mr. Bruce D. Loucks, Charlotte County Administrator, 18500 Murdock Circle, Port Charlotte, Florida 33948 | Mar. 30, 2004 | 120061 F
Hillsborough | Unincorporated Areas | Apr. 14, 2004, April 21, 2004 Tampa Tribune | Ms. Patricia G. Bean, Hillsborough County Administrator, County Center, 26th Floor, 601 East Kennedy Boulevard, Tampa, Florida 33602 | Apr. 5, 2004 | 120112 C
Dade | City of Miami | Mar. 5, 2004, March 12, 2004, Miami Herald | The Honorable Manuel A. Diaz, Mayor of the City of Miami, 3500 Pan American Drive, Miami, Florida 33133 | Feb. 27, 2004 | 120650 J
Orange | Unincorporated Areas | Apr. 7, 2004, Apr. 14, 2002 Orlando Sentinel | Mr. Krishnamurthy, Ph.D. P.E., Orange County Stormwater, Management Manager, 4200 South John Young Parkway, Orlando, Florida 32839 | July 14, 2004 | 120179 E
Broward | City of Parkland | Mar. 8, 2004 March 15, 2004 The Sun-Sentinel | The Nonorable Bob Marks, Mayor of the City of Parkland, 6600 University Drive, Parkland, Florida 33067 | Mar. 1, 2004 | 120051 F
Georgia:
Jackson | Unincorporated Areas | Apr. 14, 2003, Apr. 21, 2004, The Jackson Herald | Mr. Al Crace, Jackson, County Manager, 67 Athens Street Jefferson, Georgia 30549 | Apr. 1, 2004 | 130345 A
Chatham | City of Savannah | Apr. 6, 2004, Apr. 13, 2004 Savannah, Georgia | The Honorable Floyd Adams, Jr. Mayor of the City of Savannah, P.O. Box 1027, Savannah, Georgia 31402 | Mar. 30, 2004 | 135163 C
New Jersey: Hudson | Township of North Bergen | Mar. 31, 2004, Apr. 7, 2004, The Jersey Journal | The Honorable Nicholas J. Sacco, Mayor of the Township of North Bergen, 4233 Kennedy Boulevard, North Bergen, New Jersey 07047 | Mar. 23, 2004 | 340225 C
North Carolina: Orange | Unincorporated Areas | Jan. 28, 2004, Feb. 4, 2004, Chapel Hill Herald | Mr. John M. Link, Jr., Orange County Manager, P.O. Box 8181, 200 South Cameron Street, Hillsborough, North Carolina 27278 | May 4, 2004 | 370342 B
South Carolina:
York | City of Rock Hill. | Mar. 24, 2004, Mar. 31, 2004, The Herald | The Honorable Doug Echols, Mayor of the City of Rock Hill, P.O. Box 11706, Rock Hill, South Carolina 29731 | June 30, 2004 | 450196 C
York | Unincorporated Areas | Mar. 24, 2004, Mar. 31, 2004, The Herald | Mr. Alfred W. Green, York County Manager, P.O. Box 66, York, South Carolina 29745-0066 | June 30, 2004 | 450193 C
Tennessee:
Fayette | Unincorporated Areas | Mar. 3, 2004, Mar. 10, 2004, The Fayette Falcon | The Honorable Rhea Taylor, Mayor of Fayette County, P.O. Box 218, Aomerville, Tennessee 38068 | Nov. 21, 2003. | 470352 B
Shelby | City of Memphis. | Feb. 24, 2004, Mar. 2, 2004, The Commercial Appeal | The Honorable Willie W. Herenton, Ph.D., Mayor of the City of Memphis 125 North Main Street, Suite 700, Memphis, Tennessee 38103 | June 1, 2004 | 470177 E
Nashville and Davidson | Metropolitan Government | Jan. 26, 2004, Feb. 2, 2004, The Tennessean | The Honorable Bill Purcell, Mayor of the Metropolitan Government of Nashville and Davidson County, 225 Polk Avenue, Nashville, Tennessee 37202. | Feb. 16, 2004 | 470040 F
Virginia:
Henrico | Unincorporated Areas | Apr. 20, 2004, Apr. 27, 2004, The Richmond Times | Ms. Patricia S. O'Bannon, Chairman of the Henrico County Board of Supervisors, P.O. Box 27032, Richmond, Virginia 23273 | Apr. 12, 2004 | 510077 B
Loudoun | Unincorporated Areas | Mar. 10, 2004, Mar. 17, 2004, Loudoun Times Mirror | Mr. Kirby Bowers, Loudoun County Administrator, 1 Harrison Street., S.E., 5th Floor, P.O. Box 7000, Leesburg, Virginia 20177-7000 | June 16, 2004 | 510090 D
Norfolk | Independent City | Apr. 5, 2004, Apr. 12, 2004, The Virginia-Pilot | The Honorable Paul D. Fraim, Mayor of the City of Norfolk, 1109 City Hall Building 810 Union Street, Norfolk, Virginia 23510 | Mar. 29, 2004 | 510104 E
Prince William | Unincorporated Areas | Mar. 17, 2004, Mar. 24, 2004, Potomac News | Mr. Craig Gerhart, Prince William County Executive, 1 County Complex Court, Prince William, Virginia 22192 | June 23, 2004 | 510119 D
Independent City | City of Winchester | Mar. 15, 2004, Mar. 22, 2005, Winchester Star | Mr. Edward C. Daley, City of Winchester Manager, Rouss City Hall, 15 North Cameron Street, Winchester, Virginia 22601 | Mar. 4, 2004 | 51073 B

(Catalog of Federal Domestic Assistance No. 83.100, “Flood Insurance”)

Dated: May 26, 2004.
Anthony S. Lowe,
Mitigation Division Director, Emergency Preparedness and Response Directorate.

[FR Doc. 04-12373 Filed 6-1-04; 8:45 am]

BILLING CODE 9110-12-P